DEPARTMENT OF HEALTH AND HUMAN SERVICES

Centers for Disease Control and Prevention

[60Day-03-09]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Outcome Evaluation of CDC's Youth Media Campaign: Follow up Survey to Baseline Data Collection—New—National Center for Chronic Disease Prevention and Health Promotion (NCCDPHP), Centers for Disease Control and Prevention (CDC).

Background

In FY 2001, Congress established the Youth Media Campaign at the Centers for Disease Control and Prevention (CDC). Specifically, the House Appropriations Language said: “The Committee believes that, if we are to have a positive impact on the future health of the American population, we must change the behaviors of our children and young adults by reaching them with important health messages.” CDC, working in collaboration with federal partners, is coordinating an effort to plan, implement, and evaluate a campaign designed to clearly communicate messages that will help youth develop habits that foster good health over a lifetime. The Campaign is based on principles that have been shown to enhance success, including: designing messages based on research; testing messages with the intended audiences; involving young people in all aspects of Campaign planning and implementation; enlisting the involvement and support of parents and other influencers; refining the messages based on research; and measuring the effect of the campaign on the target audiences.

To measure the effect of the campaign on the target audiences, CDC designed a baseline survey for tween and parent dyads (Children's Youth Media Survey and Parents' Youth Media Survey) that assessed aspects of the knowledge, attitudes, beliefs, and levels of involvement in positive activities of tweens and a parent or guardian. The baseline survey was conducted prior to the launch of the campaign from April 8, 2002 through June 21, 2002. The methodology was to use a panel design and to survey 3000 dyads (3000 parents and 3000 tweens) from a nationally representative sample and to survey 3000 dyads (again 3000 parents and 3000 tweens) from the six “high dose” communities for a total of 6000 dyads or 12,000 respondents. The survey was conducted using random digit dial.

The next steps in the measurement of effects of the campaign is to collect follow-up data one year post baseline survey and two years post baseline survey. The same panel members (minus attrition) of 6000 tween/parent dyads used in the baseline survey—nationally and in the six selected metropolitan areas—would be re-contacted to complete a survey that would be similar to that used at baseline. Items on campaign awareness would be added to the survey to enable segmentation of the respondents by awareness of the campaign. Thus, the data collection would be with approximately 6000 tween/parent dyads in spring 2003 and 6000 tween/parent dyads in 2004. There is no cost to respondents.

Respondents | Number of respondents | Number of responses/ respondent | Average burden/ response (in hours) | Total burden (in hours)
Tweens (9 to 13 year olds) | 6000 | 2 (1st 2003) (2nd 2004) | 15/60 | 3000
Parents | 6000 | 2 (1st in 2003) (2nd in 2004) | 15/60 | 3000
Total |  |  |  | 6000

Dated: October 24, 2002.
Nancy E. Cheal,
Acting Associate Director for Policy, Planning and Evaluation, Centers for Disease Control and Prevention.

[FR Doc. 02-27550 Filed 10-29-02; 8:45 am]

BILLING CODE 4163-18-P